DEPARTMENT OF DEFENSE

Department of the Army; Corps of Engineers

Intent To Prepare a Draft Environmental Impact Statement for the Palm Beach Harbor Lake Worth Access Channel Expansion, Section 107 Small Navigation Project

AGENCY: Department of the Army, Army Corps of Engineers, DOD.

ACTION: Notice of intent.

SUMMARY: The U.S. Army Corps of Engineers (Corps), Jacksonville District intends to prepare a Draft Environmental Impact Statement (DEIS) for the Palm Beach Harbor Lake Worth Access Channel Expansion, Section 107 Small Navigation Project. The study is a cooperative effort between the Corps and the Florida Inland Navigation District (FIND), with the support of Palm Beach County (PBC) and the Port of Palm Beach Harbor (PBH).

FOR FURTHER INFORMATION CONTACT: James McAdams, 904-232-2117, Environmental Branch, Planning Division, P.O. Box 4970, Jacksonville, FL 32232-0019.

SUPPLEMENTARY INFORMATION: The DEIS for the PBH Lake Worth Access Channel Expansion, Section 107 Small Navigation Project was authorized by the Flood Control Act of 1968.

The purpose of the study is to consider modifying the Federal navigation project of PBH to provide navigation access for larger and deeper-draft vessels to interior berthing, testing, and repair facilities located adjacent to PBH in Lake Worth. Existing depths in the proposed Lake Worth main access channel area are presently limited to the 10-foot deep Federal IWW channel that runs north and south from the Port. The need for this deepening project comes from the recent growth in larger/deeper-draft vessels requiring deeper water depths to safely navigate the interior area.

The study involves an analysis of available information from sources within the project area and records at the Jacksonville District. The without project deepening condition is for continuing maintenance of the existing 10-foot depth (Intracoastal Waterway) IWW channel, with maintenance to maintain the channels for both projects. A deepened access channel was analyzed from the existing ten-foot depth, in one-foot increments to a 16-foot depth. Each alternative depth considered includes a one-foot required and one-foot allowable over-depth. All alternative depth main access channels have a bottom width of 125 feet for about 0.7 miles ² north and 4.5 miles south of the PBH project limit. Adding an appropriate depth access channel would enable larger vessels access to commercial repair and berthing facilities in the vicinity of PBH and improve operational efficiencies at other commercial and educational training facilities along Lake Worth.

The existing 1.6-mile Federal PBH navigation channel provides a 35 foot deep project through the ocean inlet, 33 feet through the inner channel and within the main turning basin, and 25 feet in a second turning basin, to berthing slips and wharves at PPBH, in West Palm Beach, Florida. PBH serves a variety of dry bulk, liquid bulk, and general cargo vessels calling at the Harbor in addition to smaller commercial and recreational boating interests. The present Section 107 study addresses and is focused on an extension of the harbor footprint to the north and south via the addition of main and interior access channels and berthing areas. The Jacksonville to Miami IWW, part of which is co-located with the Harbor and continues north and south from the Port, traverses the study area. This report's primary study area is a 5.2 mile reach of Lake Worth in Palm Beach County in the vicinity of PBH.

Several Federal navigation, beach erosion control, environmental restoration, and food control projects exist in the study area. The first navigation project is the PBH project. The second navigation project is the IWW from Jacksonville to Miami. Two beach erosion control projects exist along the Atlantic Ocean shoreline adjacent to PBH. Also, a section 1135 study was initiated during 1996 to examine environmental restoration of a portion of Peanut Island, the upland dredged material disposal site used in the PBH and IWW projects. The final project is the West Palm Beach Canal (C-51) that currently serves as a flood control structure, although initially constructed for navigation purposes.

Alternatives: Two basic sets of alternatives were considered for providing an access channel for navigation in the Lake Worth study area. One is to do no further improvements to the project (no action plan). The second set of alternatives involve structural changes to (extension of) the existing PBH project. The alternative evaluations involved an assessment of the optimum channel depth to provide the greatest return on the investment (net benefits), the dredging equipment for performing the construction and maintenance work, and dredged material disposal options. The identification of these alternatives and options are discussed in the subsequent sections.

Issues: The Environmental Impact Statement (EIS) will consider impacts on seagrasses, protected species, health and safety, water quality, aesthetics and recreation, fish and wildlife resources, cultural resources, energy conservation, socio-economic resources, and other impacts identified through scoping, public involvement, and interagency coordination.

Scoping: A scoping letter was sent to interested parties on September 13, 2000 for the original Environmental Assessment of the project. Due to comments received, an EIS was judged needed and a new scoping letter will be sent out the first week of February 2003. In addition, all parties are invited to participate in the scoping process by identifying any additional concerns on issues, studies needed, alternatives, procedures, and other matters related to the scoping process. At this time, there are no plans for a public scoping meeting.

Public Involvement: We invite the participation of affected Federal, state and local agencies, affected Indian tribes, and other interested private organizations and parties.

Coordination: The proposed action is being coordinated with the U.S. Fish and Wildlife Service (FWS) and the National Marine Fisheries Service under Section 7 of the Endangered Species Act, with the FWS under the Fish and Wildlife Coordination Act, and with the State Historic Preservation Officer.

Other Environmental Review and Consultation: The proposed action would involve evaluation for compliance with guidelines pursuant to Section 404(b) of the Clean Water Act; application (to the State of Florida) for Water Quality Certification pursuant to Section 401 of the Clean Water Act; certification of state lands, easements, and rights of way; Essential Fish Habitat with National Marine Fisheries Service; and determination of Coastal Zone Management Act consistency.

Agency Role: As cooperating agency, non-Federal sponsor, and leading local expert; Palm Beach County Department of Environmental Resources will provide extensive information and assistance on the resources to be impacted, mitigation measures, and alternatives.

DEIS Preparation: It is estimated that the DEIS will be available to the public on or about August 15, 2003.

Dated: February 4, 2003.
George M. Strain,
Acting Chief, Planning Division.

[FR Doc. 03-4406 Filed 2-24-03; 8:45 am]

BILLING CODE 3710-AJ-M